DEPARTMENT OF ENERGY

Federal Energy Regulatory Commission

[Docket Nos. RP00-491-003, RP02-188-002 and CP01-69-006]

Petal Gas Storage, L.L.C.; Notice of Compliance Filing

February 6, 2003.

Take notice that on January 31, 2003., Petal Gas Storage, L.L.C. (Petal), tendered for filing as part of FERC Gas Tariff, Original Volume No. 1, Substitute Original Sheet No. 11A, with an effective date of May 1, 2002.

Petal states that this filing is being made in compliance with the Commission's Order issued on January 22, 2003., directing Petal to remove any references to Petal's Electronic Bulletin Board from Petal's tariff.

Petal states that a copy of this filing has been mailed to all parties who have intervened in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 12, 2003.

Magalie R. Salas,
Secretary.

[FR Doc. 03-3539 Filed 2-12-03; 8:45 am]

BILLING CODE 6717-01-P